OFFICE OF PERSONNEL MANAGEMENT

5 CFR Part 213

RIN 3206-AJ06

Excepted Service—Schedule A Authority for Nontemporary Part-Time or Intermittent Positions

AGENCY: Office of Personnel Management.

ACTION: Final rule.

SUMMARY: The Office of Personnel Management (OPM) is revoking the Schedule A excepted service authority for nontemporary part-time or intermittent positions for which total annual compensation does not exceed 40 percent of GS-3, step 1. We are revoking it because the conditions justifying the original exception no longer exist. By revoking this authority, the positions filled under this Schedule A authority are brought into the competitive service. Revoking the authority also permits noncompetitive conversion of those currently serving in those positions to competitive service appointments.

DATES: This final rule is effective September 4, 2002. Agencies must no longer appoint persons under this authority as of September 4, 2002.

Conformity date: Agencies must move any incumbents from the (g) authority by December 3, 2002.

FOR FURTHER INFORMATION CONTACT: Christina Vay, (202) 606-0960.

SUPPLEMENTARY INFORMATION: Almost 100 years ago, the Schedule A authority 213.3102(g) was established to help agencies meet a need to fill low-graded part-time, intermittent, and seasonal positions. Agencies in the Federal Government fill jobs much differently than 100 years ago—and even 10 years ago. Agencies can now fill part-time and intermittent positions with a variety of staffing options, and they do so without exceptions from the competitive service.

Proposed regulations were published on September 10, 2001 (66 FR 46968). We received one comment from an agency supporting the revocation. Because we did not receive comments to support continuing the authority, we are continuing with our proposal to revoke it.

Agencies will have 90 days from the date of publication to move the employees to the competitive service. The authority to retain persons in the competitive service based on revocation of an excepted service appointing authority is 5 CFR 316.702.

Regulatory Flexibility Act

I certify that these regulations will not have a significant economic impact on a substantial number of small entities because they will affect only Federal agencies and employees.

Executive Order 12866, Regulatory Review

This rule has been reviewed by the Office of Management and Budget in accordance with Executive Order 12866.

List of Subjects in 5 CFR Part 213

Government employees, Reporting and recordkeeping requirements.

Office of Personnel Management.
Kay Coles James,
Director.

Accordingly, OPM is amending 5 CFR part 213 as follows:

PART 213—EXCEPTED SERVICE

1. The authority citation for part 213 is revised to read as follows:

Authority: 5 U.S.C. 3301 and 3302, E.O. 10577, 3 CFR 1954-1958 Comp., p. 218; § 213.101 also issued under 5 U.S.C. 2103; § 213.3102 also issued under 5 U.S.C. 3301, 3302, 3307, 8337(h) and 8456; E.O. 12364, 47 U.S.C. 4301 et seq.; and Pub. L. 106-117 (113 Stat. 1545).

§ 213.3102 [Amended]

2. Paragraph (g) of § 213.3102 is removed and reserved.

[FR Doc. 02-22346 Filed 9-3-02; 8:45 am]

BILLING CODE 6325-38-P